DEPARTMENT OF TRANSPORTATION

National Highway Traffic Safety Administration

[Docket No. NHTSA-2016-0120]

Reports, Forms, and Recordkeeping Requirements: Agency Information Collection Activity

AGENCY: National Highway Traffic Safety Administration, U.S Department of Transportation.

ACTION: Request for public comment on a proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Written comments should be submitted by January 23, 2017.

ADDRESSES: You may submit comments identified by Docket No. NHTSA-2016-0120 through one of the following methods:

• Federal eRulemaking Portal: Go to http://www.regulations.gov. Follow the online instructions for submitting comments.

• Mail or Hand Delivery: Docket Management Facility, US Department of Transportation, 1200 New Jersey Avenue SE., West Building Ground Floor, Room W12-140, Washington, DC 20590 between 9 a.m. and 5 p.m. Eastern Time, Monday through Friday, except Federal holidays. Telephone: 202-366-9826.

• Fax: 202-493-2251.

Instructions: All submissions must include the agency name and docket number for this proposed collection of information. Note that all comments received will be posted without change to http://www.regulations.gov, including any personal information provided. Please see the Privacy heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html .

Docket: For access to the docket to read comments received, go to http://www.regulations.gov, or the street address listed above. Follow the online instructions for accessing the dockets.

FOR FURTHER INFORMATION, CONTACT: For access to background documents, contact Eric Traube, Office of Vehicle Safety Research, National Highway Traffic Safety Administration, U.S. Department of Transportation, 1200 New Jersey Avenue SE., Washington, DC, 20590; Telephone: 202-366-5673.

SUPPLEMENTARY INFORMATION: Under the Paperwork Reduction Act of 1995, before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

The agency will summarize and/or include your comments in the request for OMB's clearance of this information collection.

In compliance with these requirements, NHTSA asks for public comments on the following proposed collection of information for which the agency is seeking approval from OMB:

OMB Control Number: Not assigned.

Title: Driver Alcohol Detection System for Safety—Field Operational Test.

Form Numbers: None.

Type of Review: New Information Collection.

Abstract: NHTSA and the Automotive Coalition for Traffic Safety (ACTS) began research efforts in February 2008 to try to find potential in-vehicle approaches to address the problem of alcohol-impaired driving. Members of ACTS comprise motor vehicle manufacturers representing approximately 99 percent of light vehicle sales in the U.S. This cooperative research partnership, known as the Driver Alcohol Detection System for Safety (DADSS) Program, is exploring the feasibility, potential benefits of, and public policy challenges associated with a more widespread use of non-invasive, in-vehicle technology to prevent alcohol-impaired driving. In a 2008 cooperative agreement, NHTSA and ACTS outlined a research program to assess the state of detection technologies that are capable of measuring blood alcohol concentration (BAC) or Breath Alcohol Concentration (BrAC) and to support the creation and testing of prototypes and subsequent hardware that could be installed in vehicles. As part of the research program, NHTSA and ACTS will build research vehicles that include both a breath- and touch-based sensor in order to evaluate the potential implementation and integration of both breath- and touch-based sensor technologies.

This collection, which will begin on September 1, 2017, pertains to a field operational test (FOT) of both the breath- and touch-based research vehicles developed under this program. A key to the establishment of effective, unobtrusive in-vehicle alcohol detection systems is an understanding of real-world use of the technology. This FOT will allow NHTSA and ACTS to evaluate the functionality of these research vehicles under varying operating conditions by having study participants drive DADSS research vehicles through preset routes. The research vehicles are the first vehicles of this kind, and will be used to gather data regarding sensor validity and reliability. This study will provide a greater understanding of drivers using the technology under varying environmental conditions. Data collected from the DADSS FOT will be used to further refine the DADSS Performance Specifications and evaluate system performance.

Description of the Need for the Information and Proposed Use of the Information: The collection of information consists of: (1) An eligibility interview (2) a multi-day FOT of DADSS sensors, and (3) a post-test day questionnaire.

The information to be collected will be used for the following purposes:

• Eligibility interview will be used to obtain self-reported eligibility information, including health, driving/criminal record, and drinking behavior, that participants must meet to qualify for participation in this study (e.g., must hold valid driver's license). Participants will also be asked to provide their height and weight.

• The DADSS FOT will be used to establish effective non-invasive, in-vehicle alcohol detection systems through an understanding of the real-world use of the technology. Breath-and touch-based sensor data along with video data (for in-vehicle validation of sensor data) collected from the DADSS FOT will be used to further refine the DADSS Performance Specifications and evaluate subsystem/sensor performance. This study will provide a greater understanding of drivers using the technology under varying environmental conditions.

• Post-test day questionnaire(s) will be used to get information about any technical difficulties or issues drivers may have had with the DADSS-FOT vehicles at the end of each test day.

• Participants must:

○ Be at least 21 years of age

○ Hold a valid U.S. or Canadian driver's license

○ Have no more than one (1) driving infraction and/or conviction on their driving record for the previous three years

○ Be free of any criminal conviction in their past including criminal driving offenses

○ Be willing to work at least five (5) days per week for 12 consecutive weeks during a three-month data collection cycle

○ Meet health criteria:

i. Cannot have a substance abuse condition including alcoholism

ii. Cannot have a history of neck or back conditions which still limit their ability to participate in certain activities.

iii. Cannot have a history of brain damage from stroke, tumor, head injury, recent concussion, or disease or infection of the brain

iv. Cannot have a current heart condition which limits their ability to participate in certain activities

v. Cannot have current uncontrolled respiratory disorders or disorders requiring oxygen

i. Cannot have had epileptic seizures or lapses of consciousness within the last 12 months

ii. Cannot have chronic migraines or tension headaches (no more than one per month during the past 12 months).

iii. Cannot have current problems with motion sickness, inner ear problems, dizziness, vertigo, or balance problems

iv. Cannot have uncontrolled diabetes (have they been recently diagnosed or have they been hospitalized for this condition, or any changes in their insulin prescription during the past 3 months)

v. Must not have had any major surgery within the past 6 months (including eye procedures).

vi. Cannot currently be taking any medications or supplements that may interfere with driving ability (i.e., cause drowsiness or impair motor abilities).

vii. Must not be pregnant or planning to become pregnant.

○ Have normal (or corrected-to-normal) hearing and vision.

○ Self-report that they are able to read, write, speak and understand English.

○ Be excluded if anyone in their household works in or is retired from any of the following businesses, occupations, or industries, which may constitute a conflict of interest with the DADSS-FOT:

i. The police force or another law enforcement agency, working as a police officer, corrections officer, or probation officer

ii. A newspaper, magazine, radio or television station, or related Web site or online news site

iii. An advertising, marketing, or public relations agency

iv. A market or public opinion research company

v. The automobile or automotive industry

vi. Liquor sales or hospitality, such as bartending

vii. Law, such as a lawyer or attorney, or working at a law firm, or in the legal profession

viii. The federal, state, or county Departments of Transportation

○ Be excluded if anyone in their immediate family has been a victim of drunk driving, or if they personally know someone that has been a victim.

Estimated Number of Respondents: 600.

Estimated Time per Response: Completion of the eligibility interview is expected to take 15 minutes. Following the eligibility/demographic interview, 480 of the 600 initial participants are expected to attend a one- (1) hour orientation session and participate in the FOT. On a given test day, the DADSS FOT will require four (4) hours per day, including a post-test day interview.

Estimated Total Annual Burden: Fifteen (15) minutes for each ineligible participant and 241 hours per participant (115,830 hours total).

Estimated Frequency: One (1) time for the eligibility interview and 60 times (days) for the DADSS-FOT and post-test day interviews.

Table 1—Estimated Burden Hours
Instrument | Number of individuals | Frequency of responses | Number of questions | Estimated individual burden | Total estimated burden hours | Total cost of burden hours over 24-month study period
Eligibility/Demographic Interview | 600 | 1 | 32 | 15 min | 150 hr | * $1,087.50
Orientation | 480 | 1 | N/A | 1 hr | 480 | ** 9,360.00
FOT including post-test questions | 480 | 650 tests per participant | 8 (post-test-day questions) | 4 hr/day for 60 days | 115,200 | ** 2,246,400.00
TOTAL |  |  |  |  | 115,830 hr | 2,258,685.00
* Interviewees will not be compensated for the eligibility/demographic interview, but we calculate the estimated burden hour cost to the public using the prevailing Federal minimum wage rate of $7.25/hour.
** Participants in the FOT will be compensated $19.50 per hour for their time in the orientation and the FOT study and this rate was used to calculate their burden hours.

Authority: The Paperwork Reduction Act of 1995, 44. U.S.C. Chapter 35, as amended; 5 CFR part 1320; and 49 CFR 1.95.

Nathaniel Beuse,
Associate Administrator for Vehicle Safety Research.

[FR Doc. 2016-28151 Filed 11-22-16; 8:45 am]

BILLING CODE 4910-59-P